DEPARTMENT OF AGRICULTURE

National Agricultural Statistics Service

Notice of Revision to the Agricultural Labor Survey and Farm Labor Reports by Suspending Data Collection for October 2020

AGENCY: National Agricultural Statistics Service, USDA.

ACTION: Notice of change to data collection and publication.

SUMMARY: This notice announces the intention of the National Agricultural Statistics Service (NASS) not to collect data for the currently approved information collection, the Agricultural Labor Survey, and its associated publication originally planned for November 2020.

FOR FURTHER INFORMATION CONTACT: Kevin L. Barnes, Associate Administrator, National Agricultural Statistics Service, U.S. Department of Agriculture, (202) 720-4333.

SUPPLEMENTARY INFORMATION: Title: Agricultural Labor Survey.

OMB Control Number: 0535-0109.

Expiration Date of Approval: February 28, 2022.

Type of Request: To suspend a currently approved information collection.

Abstract: The primary objective of the National Agricultural Statistics Service is to prepare and issue State and national estimates of crop and livestock production, disposition, and prices. The Agricultural Labor Survey provides quarterly statistics on the number of agricultural workers, hours worked, and wage rates. Number of workers and hours worked have been used to estimate agricultural productivity; wage rates have been used in the administration of the H-2A Program and for setting Adverse Effect Wage Rates. Survey data have also been used to carry out provisions of the Agricultural Adjustment Act.

USDA has determined the public can access other data sources for the data collected in the Agricultural Labor Survey. These sources include, but are not limited to, the Agricultural Resources Management Survey (ARMS), Census of Agriculture (COA), American Community Survey (ACS), Quarterly Census of Employment and Wages (QCEW), National Economic Accounts, and the National Agricultural Workers Survey (NAWS). Therefore, NASS will not be collecting data in October 2020, as originally planned. NASS will not publish the biannual Farm Labor report this November.

Authority: These data were collected under authority of 7 U.S.C. 2204(a). Individually identifiable data collected under this authority are governed by Section 1770 of the Food Security Act of 1985, 7 U.S.C. 2276, which requires USDA to afford strict confidentiality to non-aggregated data provided by respondents.

Estimate of Burden: There will be no further public reporting burden for this quarterly collection of information.

Signed at Washington, DC, September 24, 2020.
William Northey,
Under Secretary, Farm Production and Conservation USDA.

[FR Doc. 2020-21592 Filed 9-29-20; 8:45 am]

BILLING CODE P